DEPARTMENT OF TRANSPORTATION

Federal Aviation Administration

14 CFR Part 39

[Docket No. FAA-2017-0561; Directorate Identifier 2016-NM-141-AD]

RIN 2120-AA64

Airworthiness Directives; Airbus Airplanes

AGENCY: Federal Aviation Administration (FAA), DOT.

ACTION: Notice of proposed rulemaking (NPRM).

SUMMARY: We propose to supersede Airworthiness Directive (AD) 2001-16-01, which applies to certain Airbus Model A330-301, -321, -322, -341, and -342 airplanes, and certain Model A340 series airplanes; and AD 2014-17-06, which applies to all Airbus Model A330-200 series airplanes, Model A330-200 Freighter series airplanes, and Model A330-300 series airplanes. AD 2001-16-01 requires inspections for cracking of the aft cargo compartment door, and corrective action if necessary. AD 2014-17-06 requires revising the maintenance or inspection program, as applicable, to incorporate structural inspection requirements. Since we issued AD 2001-16-01 and AD 2014-17-06, we have determined that more restrictive maintenance instructions and airworthiness limitations are necessary. This proposed AD would require revising the maintenance or inspection program, as applicable, to incorporate new or revised airworthiness limitation requirements; and remove airplanes from the applicability. We are proposing this AD to address the unsafe condition on these products.

DATES: We must receive comments on this proposed AD by August 4, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2017-0561; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2017-0561; Directorate Identifier 2016-NM-141-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On July 26, 2001, we issued AD 2001-16-01, Amendment 39-12369 (66 FR 40874, August 6, 2001) (“AD 2001-16-01”), for certain Airbus Model A330-301, -321, -322, -341, and -342 airplanes, and certain Model A340 series airplanes. AD 2001-16-01 was prompted by reports of cracking in several structural parts of the aft cargo compartment door. AD 2001-16-01 requires repetitive inspections to detect cracking of the aft cargo compartment door, and corrective action if necessary; and also provides optional terminating action for the repetitive inspections. We issued AD 2001-16-01 to detect and correct cracking of the aft cargo compartment door, which could result in reduced structural integrity of the airplane.

On August 15, 2014, we issued AD 2014-17-06, Amendment 39-17959 (79 FR 52181, September 3, 2014) (“AD 2014-17-06”), for all Airbus Model A330-200 series airplanes, Model A330-200 Freighter series airplanes, and Model A330-300 series airplanes. AD 2014-17-06 superseded AD 2011-17-08, Amendment 39-16772 (76 FR 53303, August 26, 2011). AD 2014-17-06 was prompted by a revision of certain airworthiness limitations items documents, which specifies more restrictive instructions and/or airworthiness limitations. AD 2014-17-06 requires a revision to the maintenance or inspection program, as applicable, to incorporate new or revised structural inspection requirements. We issued AD 2014-17-06 to detect and correct fatigue cracking, damage, and corrosion in certain structure, which could result in reduced structural integrity of the airplane.

Since we issued AD 2001-16-01 and AD 2014-17-06, we have determined that more restrictive maintenance instructions and airworthiness limitations are necessary, and that Model A340 series airplanes should be removed from the applicability as there are currently no Model A340 series airplanes on the U.S. register.

The European Aviation Safety Agency (EASA), which is the Technical Agent for the Member States of the European Union, has issued EASA Airworthiness Directive 2016-0152, dated July 27, 2016 (referred to after this as the Mandatory Continuing Airworthiness Information, or “the MCAI”), to correct an unsafe condition for all Airbus Model A330-200 Freighter, -200, and -300 series airplanes; and Model A340-200, -300, -500, and -600 series airplanes. The MCAI states:

The airworthiness limitations are currently defined and published in the Airbus A330 and A340 Airworthiness Limitations Section (ALS) documents.

The airworthiness limitations applicable to the Damage Tolerant Airworthiness Limitation Items (DT ALI), which are approved by EASA, are specified in Airbus A330 and A340 ALS Part 2. Failure to comply with these instructions could result in an unsafe condition [fatigue cracking, damage, and corrosion in a certain structure, which could result in reduced structural integrity of the airplane].

EASA issued AD 2012-0211 (for A330 aeroplanes) [which corresponds to FAA AD 2014-17-06] and AD 2013-0127 (for A340 aeroplanes) [which corresponds to FAA AD 2001-16-01] to require the actions as specified in Airbus A330 and A340 ALS Part 2 at original issue and Revision 01, respectively.

Since those [EASA] ADs were issued, Airbus issued Revision 01 and Revision 02, respectively, of Airbus A330 and A340 ALS Part 2, to introduce more restrictive maintenance requirements and/or airworthiness limitations.

For the reason described above, this [EASA] AD retains the requirements of EASA AD 2012-0211 and AD 2013-0127, which are superseded, and requires accomplishment of the actions specified in Airbus A330 ALS Part 2 Revision 01 including Variation 1.1 and Variation 1.2, or A340 ALS Part 2 Revision 02 including Variation 2.1 and Variation 2.2, as applicable (hereafter collectively referred to as `the applicable ALS' in this [EASA] AD).

In addition, this [EASA] AD also supersedes DGAC France AD 2001-126(B), whose requirements applicable to A330 aeroplanes have been transferred into Airbus A330 ALS Part 2, and supersedes DGAC [Direction Générale de l'Aviation Civile ] France AD 2001-124(B), EASA AD 2012-0031 and AD 2012-0167, whose requirements applicable to A340 aeroplanes have been transferred into Airbus A340 ALS Part 2 [EASA ADs 2001-124(B) and 2001-126(B) correspond with FAA AD 2001-16-01].

You may examine the MCAI in the AD docket on the Internet at http://www.regulations.gov by searching for and locating Docket No. FAA-2017-0561.

Related Service Information Under 1 CFR Part 51

Airbus has issued the following service information, which describes airworthiness limitation requirements for damage-tolerant airworthiness limitation items. These documents are distinct since they provide different limitation requirements.

• Airbus A330 ALS Part 2, DT-ALI, Revision 01, issue 02, dated November 30, 2015.

• Airbus 330 ALS Part 2, DT-ALI, Variation 1.1, dated December 15, 2015.

• Airbus 330 ALS Part 2, DT-ALI, Variation 1.2, dated May 27, 2016.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This proposed AD requires revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an AMOC according to paragraph (l)(1) of this proposed AD. The request should include a description of changes to the required actions that will ensure the continued damage tolerance of the affected structure.

Differences Between This Proposed AD and the MCAI

This proposed AD does not include the Model A340 airplanes that are specified in the MCAI. We have added that MCAI to the required airworthiness actions list (RAAL) for the Model A340 airplanes.

The MCAI specifies that if there are findings from the ALS inspection tasks, corrective actions must be accomplished in accordance with Airbus maintenance documentation. However, this proposed AD does not include that requirement. Operators of U.S.-registered airplanes are required by general airworthiness and operational regulations to perform maintenance using methods that are acceptable to the FAA. We consider those methods to be adequate to address any corrective actions necessitated by the findings of ALS inspections required by this proposed AD.

Airworthiness Limitations Based on Type Design

The FAA recently became aware of an issue related to the applicability of ADs that require incorporation of an ALS revision into an operator's maintenance or inspection program.

Typically, when these types of ADs are issued by civil aviation authorities of other countries, they apply to all airplanes covered under an identified type certificate (TC). The corresponding FAA AD typically retains applicability to all of those airplanes.

In addition, U.S. operators must operate their airplanes in an airworthy condition, in accordance with 14 CFR 91.7(a). Included in this obligation is the requirement to perform any maintenance or inspections specified in the ALS, and in accordance with the ALS as specified in 14 CFR 43.16 and 91.403(c), unless an alternative has been approved by the FAA.

When a TC is issued for a type design, the specific ALS, including revisions, is a part of that type design, as specified in 14 CFR 21.31(c).

The sum effect of these operational and maintenance requirements is an obligation to comply with the ALS defined in the type design referenced in the manufacturer's conformity statement. This obligation may introduce a conflict with an AD that requires a specific ALS revision if new airplanes are delivered with a later revision as part of their type design.

To address this conflict, the FAA has approved alternative methods of compliance (AMOCs) that allow operators to incorporate the most recent ALS revision into their maintenance/inspection programs, in lieu of the ALS revision required by the AD. This eliminates the conflict and enables the operator to comply with both the AD and the type design.

However, compliance with AMOCs is normally optional, and we recently became aware that some operators choose to retain the AD-mandated ALS revision in their fleet-wide maintenance/inspection programs, including those for new airplanes delivered with later ALS revisions, to help standardize the maintenance of the fleet. To ensure that operators comply with the applicable ALS revision for newly delivered airplanes containing a later revision than that specified in an AD, we plan to limit the applicability of ADs that mandate ALS revisions to those airplanes that are subject to an earlier revision of the ALS, either as part of the type design or as mandated by an earlier AD.

For purposes of this NPRM, in order to ensure that affected airplanes are maintained in accordance with mandatory instructions and airworthiness limitations, this NPRM includes the limitations specified in Airbus 330 ALS Part 2, DT-ALI, Variation 1.1, dated December 15, 2015; and Airbus 330 ALS Part 2, DT-ALI, Variation 1.2, dated May 27, 2016. This NPRM, therefore, applies to Model A330-200, -200 Freighter, and -300 series airplanes with an original certificate of airworthiness or original export certificate of airworthiness that was issued on or before May 27, 2016, the date of approval of Airbus 330 ALS Part 2, DT-ALI, Variation 1.2. Operators of airplanes with an original certificate of airworthiness or original export certificate of airworthiness issued after that date must comply with the airworthiness limitations specified as part of the approved type design and referenced on the type certificate data sheet.

Costs of Compliance

We estimate that this proposed AD affects 101 airplanes of U.S. registry.

The actions required by AD 2014-17-06, and retained in this proposed AD, take about 1 work-hour per product, at an average labor rate of $85 per work-hour. Required parts cost about $0 per product. Based on these figures, the estimated cost of the actions that are required by AD 2014-17-06 is $85 per product.

We also estimate that it would take about 1 work-hour per product to comply with the basic requirements of this proposed AD. The average labor rate is $85 per work-hour. Required parts would cost about $0 per product. Based on these figures, we estimate the cost of this proposed AD on U.S. operators to be $8,585, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directives (AD) 2001-16-01, Amendment 39-12369 (66 FR 40874, August 6, 2001); and AD 2014-17-06, Amendment 39-17959 (79 FR 52181, September 3, 2014); and

b. Adding the following new AD:

Airbus: Docket No. FAA-2017-0561; Directorate Identifier 2016-NM-141-AD.

(a) Comments Due Date

We must receive comments by August 4, 2017.

(b) Affected ADs

This AD replaces AD 2001-16-01, Amendment 39-12369 (66 FR 40874, August 6, 2001) (“AD 2001-16-01”); and AD 2014-17-06, Amendment 39-17959 (79 FR 52181, September 3, 2014) (“AD 2014-17-06”).

(c) Applicability

This AD applies to the Airbus airplanes identified in paragraphs (c)(1), (c)(2), and (c)(3) of this AD, certificated in any category, with an original certificate of airworthiness or original export certificate of airworthiness issued on or before May 27, 2016.

(1) Airbus Model A330-201, -202, -203, -223, and -243 airplanes.

(2) Airbus Model A330-223F and -243F airplanes.

(3) Airbus Model A330-301, -302, -303, -321, -322, -323, -341, -342, and -343 airplanes.

(d) Subject

Air Transport Association (ATA) of America Code 05, Periodic inspections.

(e) Reason

This AD was prompted by a determination that more restrictive maintenance instructions and airworthiness limitations are necessary. We are issuing this AD to detect and correct fatigue cracking, damage, and corrosion in a certain structure, which could result in reduced structural integrity of the airplane.

(f) Compliance

Comply with this AD within the compliance times specified, unless already done.

(g) Retained Requirement: Maintenance or Inspection Program Revision, With a New Terminating Action

This paragraph restates the requirements of paragraph (i) of AD 2014-17-06, with a new terminating action. Accomplishing the revision required by paragraph (j) of this AD terminates the requirements of this paragraph.

(1) Within 3 months after October 8, 2014 (the effective date of AD 2014-17-06): Revise the maintenance or inspection program, as applicable, by incorporating Airbus Document AI/SE-M4/95A.0089/97, “A330 Airworthiness Limitation Items,” Issue 19, dated March 23, 2012; “Variation to Issue 19 of ALI Document (referenced in ALS Part 2) Damage Tolerant Airworthiness Limitation Items (DT ALI),” variation reference 0GVLG120018/C0S, dated October 24, 2012; and “Variation to Issue 19 of ALI Document (referenced in ALS Part 2) Damage Tolerant Airworthiness Limitation Items (DT ALI),” variation reference 0GVLG130002/C01, dated March 26, 2013.

(2) Comply with all applicable instructions and airworthiness limitations included in Airbus Document AI/SE M4/95A.0089/97, “A330 Airworthiness Limitation Items,” Issue 19, dated March 23, 2012; “Variation to Issue 19 of ALI Document (referenced in ALS Part 2) Damage Tolerant Airworthiness Limitation Items (DT ALI),” variation reference 0GVLG120018/C0S, dated October 24, 2012; and “Variation to Issue 19 of ALI Document (referenced in ALS Part 2) Damage Tolerant Airworthiness Limitation Items (DT ALI),” variation reference 0GVLG130002/C01, dated March 26, 2013. The initial compliance times for the actions specified in Airbus Document AI/SE-M4/95A.0089/97, “A330 Airworthiness Limitation Items,” Issue 19, dated March 23, 2012; “Variation to Issue 19 of ALI Document (referenced in ALS Part 2) Damage Tolerant Airworthiness Limitation Items (DT ALI),” variation reference 0GVLG120018/C0S, dated October 24, 2012; and “Variation to Issue 19 of ALI Document (referenced in ALS Part 2) Damage Tolerant Airworthiness Limitation Items (DT ALI),” 0GVLG130002/C01, dated March 26, 2013; are at the times specified in Airbus Document AI/SE-M4/95A.0089/97, “A330 Airworthiness Limitation Items,” Issue 19, dated March 23, 2012; “Variation to Issue 19 of ALI Document (referenced in ALS Part 2) Damage Tolerant Airworthiness Limitation Items (DT ALI),” variation ref. 0GVLG120018/C0S, dated October 24, 2012; and “Variation to Issue 19 of ALI Document (referenced in ALS Part 2) Damage Tolerant Airworthiness Limitation Items (DT ALI),” variation ref. 0GVLG130002/C01, dated March 26, 2013; or within 3 months after October 8, 2014 (the effective date of AD 2014-17-06), whichever occurs later.

(h) Retained Provision: Optional Compliance, With a New Terminating Action

This paragraph restates the provision in paragraph (j) of AD 2014-17-06, with a new terminating action. Compliance with tasks 533021-02-01, 533021-02-02, and 533021-02-03, specified in “Variation to Issue 19 of ALI Document (referenced in ALS Part 2) Damage Tolerant Airworthiness Limitation Items (DT ALI),” variation ref. 0GVLG120022/C0S, dated December 21, 2012, may be used as a method of compliance to tasks 533021-01-01, 533021-01-02, 533021-01-03 specified in Section 2.2.1 and 2.2.2 of Section 2, “Airworthiness Limitations,” of Airbus Document AI/SE M4/95A.0089/97, “A330 Airworthiness Limitation Items,” Issue 19, dated March 23, 2012. Accomplishing the revision required by paragraph (j) of this AD terminates the provision specified in this paragraph.

(i) Retained Requirement: No Alternative Intervals or Limits, With a New Exception

This paragraph restates the requirements of paragraph (k) of AD 2014-17-06, with a new exception. Except as provided by paragraph (h) of this AD and as required by paragraph (j) of this AD, after the maintenance or inspection program, as applicable, has been revised as required by paragraph (g) of this AD, no alternative actions (e.g., inspections) or intervals may be used unless the actions or intervals are approved as an alternative method of compliance (AMOC) under the provisions of paragraph (l)(1) of this AD.

(j) New Requirement: Maintenance or Inspection Program Revision

Within 3 months after the effective date of this AD: Revise the maintenance or inspection program, as applicable, by incorporating the service information specified in paragraphs (j)(1), (j)(2), and (j)(3) of this AD. The initial compliance times for the actions specified in the service information referenced in paragraphs (j)(1), (j)(2), and (j)(3) of this AD are the times specified in the applicable service information, or within 3 months after the effective date of this AD, whichever occurs later. Accomplishing the revision specified in this paragraph terminates the requirements of paragraph (g) of this AD and the provision specified in paragraph (h) of this AD.

(1) Airbus A330 Airworthiness Limitations Section (ALS) Part 2, Damage Tolerant Airworthiness Limitation Items (DT-ALI), Revision 01, issue 02, dated November 30, 2015.

(2) Airbus 330 ALS Part 2, DT-ALI, Variation 1.1, dated December 15, 2015.

(3) Airbus 330 ALS Part 2, DT-ALI, Variation 1.2, dated May 27, 2016.

(k) New Requirement: No Alternative Actions or Intervals

After the maintenance or inspection program, as applicable, has been revised, as required by paragraph (j) of this AD, no alternative actions (e.g., inspections) or intervals may be used unless the actions or intervals are approved as an AMOC in accordance with the procedures specified in paragraph (l)(1) of this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(m) Related Information

(1) Refer to Mandatory Continuing Airworthiness Information (MCAI) EASA Airworthiness Directive 2016-0152, dated July 27, 2016, for related information. This MCAI may be found in the AD docket on the Internet at http://www.regulations.gov by searching for and locating Docket No. FAA-2017-0561.

(2) For more information about this AD, contact Vladimir Ulyanov, Aerospace Engineer, International Branch, ANM-116, Transport Airplane Directorate, FAA, 1601 Lind Avenue SW., Renton, WA 98057-3356; telephone 425-227-1138; fax 425-227-1149.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on June 9, 2017.
Michael Kaszycki,
Acting Manager, Transport Airplane Directorate, Aircraft Certification Service.

[FR Doc. 2017-12614 Filed 6-19-17; 8:45 am]

BILLING CODE 4910-13-P